DEPARTMENT OF ENERGY

Federal Energy Regulatory Commission

18 CFR Part 342

[Docket No. RM26-6-000]

Five-Year Review of the Oil Pipeline Index; Correction

AGENCY: Federal Energy Regulatory Commission

ACTION: Notice of proposed rulemaking; correction.

SUMMARY: The Federal Energy Regulatory Commission published a document in the Federal Register of November 24, 2025, concerning a notice of proposed rulemaking seeking comment on the Commission's proposed index level used to determine annual changes to oil pipeline rate ceilings. The document contained an error.

DATES: This correction is effective December 19, 2025.

FOR FURTHER INFORMATION CONTACT:

Monil Patel (Technical Information), Office of Energy Market Regulation, Federal Energy Regulatory Commission, 888 First Street NE, Washington, DC 20426, (202) 502-8296. Monil.Patel@ferc.gov

Evan Steiner (Legal Information), Office of the General Counsel, Federal Energy Regulatory Commission, 888 First Street NE, Washington, DC 20426, (202) 502-8792. Evan.Steiner@ferc.gov

SUPPLEMENTARY INFORMATION:

Correction

In FR Doc. 2025-20762 (193 FERC ¶ 61,045) beginning on page 52902 in the issue of Monday, November 24, 2025, make the following corrections:

On page 52904, in the second column, footnote 22, “The Regulatory Impact Analysis (RIA) supporting this rulemaking can be found as a supporting document at www.regulations.gov.” should read “The Regulatory Impact Analysis (RIA) supporting this rulemaking can be found in this docket on the Commission's eLibrary system.”

On page 52906, in the first column, lines 60-63, and the second column, line 1, “The regulatory impact analysis associated with this rulemaking can be found as a supporting document at www.regulations.gov.” should read “The regulatory impact analysis associated with this rulemaking can be found in this docket on the Commission's eLibrary system.”

Issued: December 17, 2025.
Debbie-Anne A. Reese,
Secretary.

[FR Doc. 2025-23488 Filed 12-18-25; 8:45 am]

BILLING CODE 6717-01-P